DEPARTMENT OF TRANSPORTATION

National Highway Traffic Safety Administration

[Docket No. NHTSA-2016-0056]

Decision That Certain Nonconforming Motor Vehicles Are Eligible for Importation

AGENCY: National Highway Traffic Safety Administration

ACTION: Grant of petitions.

SUMMARY: This document announces decisions by NHTSA that certain motor vehicles not originally manufactured to comply with all applicable Federal Motor Vehicle Safety Standards (FMVSS) are eligible for importation into the United States because they are substantially similar to vehicles originally manufactured for sale in the United States and certified by their manufacturers as complying with the safety standards, and they are capable of being readily altered to conform to the standards or because they have safety features that comply with, or are capable of being altered to comply with, all applicable FMVSS.

DATES: These decisions became effective on the dates specified in Annex A.

ADDRESSES: For further information contact Mr. George Stevens, Office of Vehicle Safety Compliance, NHTSA (202-366-5308).

SUPPLEMENTARY INFORMATION:

Background

Under 49 U.S.C. 30141(a)(1)(A), a motor vehicle that was not originally manufactured to conform to all applicable FMVSS shall be refused admission into the United States unless NHTSA has decided that the motor vehicle is substantially similar to a motor vehicle originally manufactured for importation into and/or sale in the United States, certified under 49 U.S.C. 30115, and of the same model year as the model of the motor vehicle to be compared, and is capable of being readily altered to conform to all applicable FMVSS.

Where there is no substantially similar U.S.-certified motor vehicle, 49 U.S.C. 30141(a)(1)(B) permits a nonconforming motor vehicle to be admitted into the United States if its safety features comply with, or are capable of being altered to comply with, all applicable FMVSS based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

NHTSA received petitions from registered importers to decide whether the vehicles listed in Annex A to this notice are eligible for importation into the United States. To afford an opportunity for public comment, NHTSA published notice of these petitions as specified in Annex A. The reader is referred to those notices for a thorough description of the petitions.

Comments: No substantive comments were received in response to the petitions identified in Appendix A.

NHTSA Decision: Accordingly, on the basis of the foregoing, NHTSA hereby decides that each motor vehicle listed in Annex A to this notice, which was not originally manufactured to comply with all applicable FMVSS, is either substantially similar to a motor vehicle manufactured for importation into and/or sale in the United States, and certified under 49 U.S.C. 30115, as specified in Annex A, and is capable of being readily altered to conform to all applicable FMVSS or has safety features that comply with, or are capable of being altered to comply with, all applicable Federal Motor Vehicle Safety Standards.

Vehicle Eligibility Number for Subject Vehicles: The importer of a vehicle admissible under any final decision must indicate on the form HS-7 accompanying entry the appropriate vehicle eligibility number indicating that the vehicle is eligible for entry. Vehicle eligibility numbers assigned to vehicles admissible under this decision are specified in Annex A.

Authority: 49 U.S.C. 30141(a)(1)(A), (a)(1)(B) and (b)(1); 49 CFR 593.7; delegations of authority at 49 CFR 1.95 and 501.8.

Jeffrey M. Giuseppe,
Director, Office of Vehicle Safety Compliance.

Annex A

Nonconforming Motor Vehicles Decided To Be Eligible for Importation

1. Docket No. NHTSA-2015-0022

Nonconforming Vehicles: 2006 Ferrari 612 Scagletti passenger cars manufactured before September 1, 2006.

Substantially Similar U.S. Certified Vehicles: 2006 Ferrari 612 Scagletti passenger cars manufactured before September 1, 2006.

Notice of Petition Published at: 80 FR 47555 (August 7, 2015).

Vehicle Eligibility Number: VSP-573 (effective date October 6, 2015).

2. Docket No. NHTSA-2015-0079

Nonconforming Vehicles: 2010 Harley-Davidson FX, XL, and VR motorcycles.

Substantially Similar U.S. Certified Vehicles: 2010 Harley-Davidson FX, XL, and VR motorcycles.

Notice of Petition Published at: 81 FR 4362 (January 26, 2016).

Vehicle Eligibility Number: VSP-578 (effective date March 3, 2016).

3. Docket No. NHTSA-2015-0080

Nonconforming Vehicles: 2009 Buell 1125R, Ulysses XB, Lightning XB, and Blast motorcycles.

Substantially Similar U.S. Certified Vehicles: 2009 Buell 1125R, Ulysses XB, Lightning XB, and Blast motorcycles.

Notice of Petition Published at: 81 FR 4363 (January 26, 2016).

Vehicle Eligibility Number: VSP-579 (effective date March 3, 2016).

4. Docket No. NHTSA-2015-0081

Nonconforming Vehicles: 2006 Mercedes-Benz SL passenger cars manufactured before September 1, 2006.

Substantially Similar U.S. Certified Vehicles: 2006 Mercedes-Benz SL passenger cars manufactured before September 1, 2006.

Notice of Petition Published at: 80 FR 67483 (November 2, 2015).

Vehicle Eligibility Number: VSP-574 (effective date December 11, 2015).

[FR Doc. 2016-11793 Filed 5-18-16; 8:45 am]

BILLING CODE 4910-59-P